DEPARTMENT OF HOMELAND SECURITY

Coast Guard

[Docket No. USCG-2013-0516]

Boston Area Maritime Security Advisory Committee; Vacancies

AGENCY: Coast Guard, DHS.

ACTION: Solicitation for Membership.

SUMMARY: This notice requests individuals interested in serving on the Boston Area Maritime Security Committee to submit their applications for membership, to the Captain of the Port, Boston, MA.

DATES: Requests for membership should reach the U.S. Coast Guard Captain of the Port Boston on or before August 14, 2013.

ADDRESSES: Applications for membership should be submitted to the Captain of the Port Boston at the following address: Commander (sx), USCG Sector Boston, 427 Commercial Street, Boston, MA 02109 or by email to Phillip.C.Smith@uscg.mil.

FOR FURTHER INFORMATION CONTACT: For questions about submitting an application or about the Boston Area Maritime Security Advisory Committe in general, contact Mr. Phillip C. Smith at 617-223-3008 or by email to Phillip.C.Smith@uscg.mil.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees (AMSCs) for any port area of the United States. (See 33 U.S.C. 1226; 46 U.S.C.; 33 CFR 1.05-1, 6.01; Department of Homeland Security Delegation No. 0170.1). MTSA includes a provision exempting these AMSCs from the Federal Advisory Committee Act, Public Law 92-436, 86 Stat. 470 (5 U.S.C. App. 2).

Boston AMSC Purpose

The AMSCs shall assist the Captain of the Port in the development, review, update, and exercising of the Area Maritime Security Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Captain of the Port in developing and maintaining the AMS Plan.

AMSC Composition

The composition of an AMSC, to include the Boston AMSC and its subcommittees, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members of the Boston AMSC must have at least 5 years of experience related to maritime or port security operations.

AMSC Membership

The Boston AMSC has 29 members who represent Federal, State, local, and industry stakeholders from Massachusetts. We are seeking to fill 7 positions with this solicitation.

Applicants may be required to pass an appropriate security background check prior to appointment to the committee. Members' terms of office will be for 5 years; however, a member is eligible to serve additional terms of office. Members will not receive any salary or other compensation for their service on an AMSC.

Request for Applications

Those seeking membership are not required to submit formal applications to the local Captain of the Port, however, because we do have an obligation to ensure that a specific number of members have the prerequisite maritime security experience, we encourage the submission of resumes highlighting experience in the maritime and security industries.

In support of the USCG policy on gender and ethnic nondiscrimination, we encourage qualified women and men of all racial and ethnic groups to apply.

Dated: June 21, 2013.
J.C. O'Connor III,
Captain, U.S. Coast Guard, Federal Maritime Security Coordinator Boston.

[FR Doc. 2013-16802 Filed 7-12-13; 8:45 am]

BILLING CODE 9110-04-P